DEPARTMENT OF DEFENSE

Office of the Secretary

Proposed Collection; Comment Request

AGENCY: Office of the Under Secretary of Defense (Personnel and Readiness).

ACTION: Notice.

In compliance with Section 3506(c)(2)(A) of the Paperwork Reduction Act of 1995, the Office of the Under Secretary of Defense (Personnel and Readiness) announces the following proposed public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by October 11, 2005.

ADDRESSES: Written comments and recommendations on the proposed information collection should be sent to the Department of Defense Education Activity (DoDEA), 4040 N. Fairfax Drive, 9th Floor, Arlington, VA 22203, Attn: Dr. Judith L. Williams.

FOR FURTHER INFORMATION CONTACT: To request more information on this proposed information collection or to obtain a copy of the proposal and associated collection instruments, please write to the above address or call at (703) 588-3143.

Title and OMB Control Number: “Department of Defense Activity (DoDEA) Evaluation and Program Surveys—Generic,’ OMB Control Number 0704-TBD.

Needs and Uses: The Department of Defense Education Activity (DoDEA) is a DoD field activity operating under the direction, authority, and control of the Deputy Under Secretary of Defense, Military Community and Family Policy. The DoDEA operates 223 schools in 16 districts located in 13 foreign countries, seven states, Guam, and Puerto Rico. The DoDEA has a need to do one-time evaluations of students and sponsors in the areas of educational program implementation, education school based decisions (i.e. school calendar), and general school functions. Collection of this data will be conducted through paper-pencil surveys, interviews, focus groups, and online surveys.

Affected Public: Individuals or households.

Annual Burden Hours: 3,667 hours.

Number of Respondents: 22,000.

Responses Per Respondent: 1.

Average Burden Per Response: 10 minutes.

Frequency: On occasion.

SUPPLEMENTARY INFORMATION:

Summary of Information Collection

DoDEA will conduct a variety of activities, to include, but not necessarily limited to paper-pencil surveys, interviews, focus groups, and online surveys in the area of curriculum implementation, school calendars, school facilities, course offerings, technology access, enrollment procedures, transition procedures, counseling procedures, and other general school functions. Respondents will be DoDEA students in grades Pre-K-12 and their sponsors who are not included in 10 USC 1782, Survey of Military Families. Survey instruments, to include burden hours and supporting documentation, will be submitted to the DoD Clearance Officer and OMB for final approval as they become available.

Dated: July 29, 2005.
Patricia L. Toppings,
Alternate OSD Federal Register Liaison Officer, Department of Defense.

[FR Doc. 05-15847 Filed 8-10-05; 8:45 am]

BILLING CODE 5001-06-M